DEPARTMENT OF HEALTH AND HUMAN SERVICES

Administration for Children and Families

Office of Refugee Resettlement

Statement of Organization, Functions, and Delegations of Authority; Delegation From Office of Refugee Resettlement Director to Unaccompanied Children Bureau Chief

Notice is hereby given that I delegate to the Chief of the Unaccompanied Children Bureau the following authority delegated to the Deputy Assistant Secretary for Humanitarian Services and Director of the Office of Refugee Resettlement by the Assistant Secretary for Children and Families and the Secretary under the William Wilberforce Trafficking Victims Protection Reauthorization Act of 2008 (Pub. L. 110-457 sec. 235, amended).

(a) Authority Delegated

Authority under the William Wilberforce Trafficking Victims Protection Reauthorization Act of 2008 section 235(d)(1) to specifically consent to juvenile court jurisdiction for an unaccompanied alien child who is applying for special immigrant status pursuant to the Immigration and Nationality Act (8 U.S.C. 1101 (a)(27)(J)) and who is in the custody of the Secretary.

(b) Limitations

1. This delegation shall be exercised under the Department's existing delegation of authority and policy on regulations.

2. This delegation shall be exercised under financial and administrative requirements applicable to all Administration for Children and Families authorities.

(c) Effective Date

This delegation of authority is effective on date of signature. In addition, I hereby affirm and ratify any actions taken by the Chief of the Unaccompanied Children Bureau, which, in effect, involved the exercise of these authorities prior to the effective date of this delegation.

Robin Dunn Marcos,
Deputy Assistant Secretary for Humanitarian Services and Director, Office of Refugee Resettlement.

[FR Doc. 2025-00004 Filed 1-6-25; 8:45 am]

BILLING CODE 4184-45-P